DEPARTMENT OF ENERGY

Federal Energy Regulatory Commission

[Project Nos. 1932-004, 1933-010 and 1934-010]

Southern California Edison Company; Notice of Meeting To Discuss Section 10(j) and Endangered Species Act Issues

July 23, 2002.

a. Date and Time of Meeting: August 8, 2002, 9 a.m. Pacific Coast Time.

b. Place: Conference Call.

c. FERC Contact: Jon Cofrancesco at jon.cofrancesco@ferc.gov; (202) 219-0079.

d. Purpose of Meeting: Commission staff, the U.S. Fish and Wildlife Service, and the California Department of Fish and Game (CDFG) will discuss U.S. Department of the Interior's and CDFG's recommendations under Section 10(j) and any Endangered Species Act (ESA) issues for the Lytle Creek, Santa Ana River 1 & 3, and Mill Creek 2/3 Projects, P-1932-004, P-1933-010, and P-1934-010, respectively. Section 10(j) issues include water quality monitoring, minimum flows, fish screen, fish surveys and reports, Keller Creek diversion dam decommissioning, and adaptive management. The projects are located in San Bernardino County, California.

e. Proposed Agenda: 1. Introduction; 2. Recognition of Participants; 3. Meeting Procedures; 4. Section 10(j) issues discussion; 5. ESA Discussion; 6. Close Meeting

f. All local, state, and Federal agencies, Indian Tribes, and other interested parties are invited to join the conference call. Please call Jon Cofrancesco at (202) 219-0079 at least one day in advance for instructions on how to join the conference call.

g. Procedural schedule: The license applications will be processed according to the following Hydro Licensing Schedule. Revisions to the schedule will be made as appropriate:

Initiate 10(j) Process, May 7, 2002.

Notice of the availability of the final NEPA document, September 30, 2002.

Ready for Commission decision on the application, January 31, 2003.

Linwood A. Watson, Jr.,
Deputy Secretary.

[FR Doc. 02-19038 Filed 7-26-02; 8:45 am]

BILLING CODE 6717-01-P